Title 3—

The President

Proclamation 10970 of September 11, 2025

Patriot Day 2025, the 24th Anniversary of the September 11 Terrorist Attacks

By the President of the United States of America

A Proclamation

September 11, 2001, will forever live in the collective consciousness of those who witnessed four commercial jetliners converted into weapons of terror to target innocent Americans on a beautiful Tuesday morning in September, 24 years ago.

At 8:46 a.m., the first plane—Flight 11 from Boston, Massachusetts—hit the North Tower of the World Trade Center. Seventeen minutes later, at 9:03 a.m., Flight 175, also from Boston, struck the South Tower. At 9:37 a.m., Flight 77 from Washington, DC, smashed into the Pentagon. Twenty-two minutes later, the South Tower collapsed, and shortly thereafter the North Tower fell with it. Ultimately, 2,753 people perished in New York City and 184 perished in Arlington, Virginia.

Hearts sank as word started to spread. There was one plane still unaccounted for—Flight 93 from Newark, New Jersey—slowly advancing toward the heart of Washington, DC, carrying 40 innocent souls. In the face of certain death, these ordinary men and women devised an extraordinary plan to deny evil another victory. Their final act was to say a last goodbye to their loved ones, some leaving voicemails that can still be heard today. With the rallying cry, “Let's roll,” they stormed the cockpit to overcome the terrorists, forcing the plane to crash in a field in southwestern Pennsylvania. Their bravery saved countless lives and preserved our Nation's capital as a symbol of the enduring strength of our Republic. Their uncommon courage will never be forgotten, and the hallowed ground in Pennsylvania, their final destination, serves as a lasting reminder that the United States will never yield to forces of evil.

The terrorist attacks of September 11 not only sparked fury but also a groundswell of patriotism, renewing our unity, reinvigorating American pride, and demonstrating that, in the wake of unimaginable evil, Americans will always stand united. In the aftermath of the deadliest terrorist attack in recorded history, the goodness, grace, and unbreakable spirit of the American people prevailed.

Twenty-four years later, we renew our resolve to ensure that we never again face such a ruthless attack. My Administration is committed to upholding a foreign policy of peace through strength, and we proclaim without reservation that any enemy who seeks to strike our shores, endanger our citizens, and threaten our way of life will be met with devastation and crushing defeat by the fiercest, most lethal, and most formidable military on the face of the Earth.

Today, we honor and remember the souls who perished on September 11, 2001, and those who succumbed to illness and injury in the days, months, and years that followed. We pray for the grieving families who carry their memories and for the survivors who bear enduring scars. We praise the countless firefighters, law enforcement officers, and other first responders who ran into flames, sought the injured to save lives and offer comfort, and searched through rubble for signs of life. We are eternally indebted for their selfless service.

We vow that any enemy who spills American blood will face the full wrath of American justice. And above all, we recommit to honoring the memories, cherishing the legacies, and remembering the stories of our fallen heroes for all eternity.

As we commemorate this somber anniversary, we reaffirm that the vow whispered in sorrow and shouted in anguish in our Nation's darkest hour remains our solemn pledge and promise: We will never, ever forget.

By a joint resolution approved December 18, 2001 (Public Law 107-89), the Congress designated September 11 of each year as “Patriot Day.”

NOW, THEREFORE, I, DONALD J. TRUMP, President of the United States of America, do herby proclaim September 11, 2025, as Patriot Day, 2025. I call upon all departments, agencies, and instrumentalities of the United States to display the flag of the United States at half-staff in honor of the 2,977 innocent souls who lost their lives on September 11, 2001. I also invite the Governors of the United States and its Territories, and interested organizations and individuals, to join in this observance. To our Nation's young people, I encourage you to ask your family, friends, and neighbors, as well as our military service members and first responders, to recount their memories of that fateful day, share how it touched their lives, and reflect upon the unmatched pride that comes with being an American citizen.

IN WITNESS WHEREOF, I have hereunto set my hand this eleventh day of September, in the year of our Lord two thousand twenty-five, and of the Independence of the United States of America the two hundred and fiftieth.

[FR Doc. 2025-17966

Filed 9-15-25; 11:15 am]

Billing code 3395-F4-P